DEPARTMENT OF THE INTERIOR

Fish and Wildlife Service

50 CFR Part 17

RIN 1018-AG71

Endangered and Threatened Wildlife and Plants; Determinations of Whether Designation of Critical Habitat is Prudent for 81 Plants and Proposed Designations for 76 Plants From the Islands of Kauai and Niihau, Hawaii

AGENCY: Fish and Wildlife Service, Interior.

ACTION: Proposed rule; reopening of comment period and public hearing.

SUMMARY: The U.S. Fish and Wildlife Service (Service) gives notice of a public hearing on the prudency determinations for 81 plants and the proposed critical habitat designations for 76 plants from the islands of Kauai and Niihau, Hawaii. In addition, the comment period which originally closed on January 8, 2001, will be reopened. The new comment period and hearing will allow all interested parties to submit oral or written comments on the proposal. We are seeking comments or suggestions from the public, other concerned governmental agencies, the scientific community, industry, or any other interested parties concerning the proposed rule. Comments already submitted on the proposed rule need not be resubmitted as they will be fully considered in the final determination.

DATES: The comment period for this proposal now closes on February 19, 2001. Any comments received by the closing date will be considered in the final decision on this proposal. The public hearing will be held from 1:00 p.m. to 3:00 p.m. and 6:00 p.m. to 8:00 p.m. on Tuesday, February 6, 2001, on the island of Kauai, Hawaii. Prior to the public hearing, the Service will be available from 12:30 to 1:00 p.m. and from 5:30 to 6:00 p.m. to provide information and to answer questions.

ADDRESSES: The public hearing will be held at the Radisson Kauai Beach Resort, Pakalana Room, 4331 Kauai Beach Drive, Lihue, Kauai. Comments and materials concerning this proposal should be sent to the Field Supervisor, U.S. Fish and Wildlife Service, Pacific Islands Ecoregion Office, 300 Ala Moana Boulevard, Room 3-122, P.O. Box 50088, Honolulu, Hawaii 96850. Comments and materials received will be available for public inspection, by appointment, during normal business hours at the above address.

FOR FURTHER INFORMATION CONTACT: Paul Henson, at the above address, phone 808-541-3441, facsimile 808-541-3470.

SUPPLEMENTARY INFORMATION:

Background

On November 7, 2000, the Service published a notice of prudency determinations for 81 plants species and proposed designations of critical habitat for 76 plant species from the islands of Kauai and Niihau, Hawaii, pursuant to the Endangered Species Act of 1973, as amended (Act) in the Federal Register (65 FR 66808). The original comment period closed on January 8, 2001. The comment period now closes on February 19, 2001. Written comments should be submitted to the Service (see ADDRESSES section).

A total of 95 species historically found on Kauai and Niihau were listed as endangered or threatened species under the Act, between 1991 and 1996. Some of these species may also occur on other Hawaiian islands. At the time each plant was listed, we determined that designation of critical habitat was not prudent because designation would increase the degree of threat to the species and/or would not benefit the species.

Due to litigation, we reconsidered our previous prudency determinations for the 95 plants. From this review, we are proposing that critical habitat is prudent for 76 of these species because the potential benefits of designating critical habitat essential for the conservation of these species outweigh the risks of designation. We are proposing that the designation of critical habitat is not prudent for five species. The remaining 14 species historically found on Kauai and/or Niihau, no longer occur on these islands. However, these species do occur on other islands, so proposed prudency determinations will be made in future rules addressing plants on those islands.

This proposed rule also proposes designation of critical habitat for the 76 species. Twenty-three critical habitat units, covering a total of 24,539.23 hectares (60,636.42 acres), are proposed for designation on the islands of Kauai and Niihau.

Section 4(b)(5)(E) of the Act (16 U.S.C. 1531 et seq.), requires that a public hearing be held if it is requested within 45 days of the publication of a proposed rule. In response to a request from a government agency of the State of Hawaii, the Service will hold a public hearing on the date and at the address described in the DATES and ADDRESSES sections above.

Anyone wishing to make an oral statement for the record is encouraged to provide a written copy of their statement and present it to the Service at the hearing. In the event there is a large attendance, the time allotted for oral statements may be limited. Oral and written statements receive equal consideration. There are no limits to the length of written comments presented at the hearing or mailed to the Service. Legal notices announcing the date, time, and location of the hearing will be published in newspapers concurrently with the Federal Register notice.

Comments from the public regarding the accuracy of this proposed rule are sought, especially regarding:

(1) The reasons why critical habitat for any of these species is prudent or not prudent;

(2) The reasons why any particular area should or should not be designated as critical habitat for any of these species;

(3) Specific information on the amount and distribution of habitat for any of these species;

(4) Land use practices and current or planned activities in the subject areas and their possible impacts on proposed critical habitat;

(5) Any economic or other relevant impacts resulting from the proposed designations of critical habitat, including any impacts on small entities or families; and

(6) Economic and other potential values associated with designating critical habitat for the 76 plant species such as those derived from non-consumptive uses (e.g., hiking, camping, birding, enhanced watershed protection, increased soil retention, “existence values”, and reductions in administrative costs).

Reopening of the comment period will enable the Service to respond to the request for a public hearing on the proposed action. The comment period on this proposal now closes on February 19, 2001. Written comments should be submitted to the Service office listed in the ADDRESSES section.

Author

The primary authors of this notice Benton Pang and Christa Russell (see ADDRESSES section).

Authority: The authority for this action is the Endangered Species Act of 1973 (16 U.S.C. 1531 et seq.).

Dated: January 3, 2001.
Rowan W. Gould,
Acting Regional Director, Region 1, Fish and Wildlife Service.

[FR Doc. 01-659 Filed 1-17-01; 8:45 am]

BILLING CODE 4310-55-P